FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202) 523-5793 or tradeanalysis@fmc.gov.

Agreement No.: 011961-021.

Title: The Maritime Credit Agreement.

Parties: Maersk Line A/S; Cosco Container Lines Company Limited; Hanjin Shipping Co., Ltd.; Kawasaki Kisen Kaisha Ltd.; United Arab Shipping Company; Wallenius Wilhelmsen Logistics AS; and Zim Integrated Shipping Services, Ltd.

Filing Party: Wayne R. Rohde, Esq.; Cozen O'Conner; 1200 19th Street NW., Washington, DC 20036.

Synopsis: The amendment deletes China Shipping Container Lines Co. Ltd. as a party to the Agreement.

Agreement No.: 012067-015.

Title: U.S. Supplemental Agreement to HLC Agreement.

Parties: BBC Chartering Carriers GmbH & Co. KG and BBC Chartering & Logistic GmbH & Co. KG, as a single member; Chipolbrok (Chinese-Polish Joint Stock Shipping Company); Hanssy Shipping Pte. Ltd.; Hyundai Merchant Marine Co., Ltd.; Industrial Maritime Carriers, L.L.C.; Nordana Line A/S; and Rickmers-Linie GmbH & Cie. KG.

Filing Party: Wade S. Hooker, Esq.; 211 Central Park W; New York, NY 10024.

Synopsis: The amendment deletes Safmarine MPV N.V. as a party to the U.S. Agreement and the worldwide HLC Agreement.

Agreement No.: 012327-003.

Title: “K” Line/WHL/WHS/PIL Space Charter and Sailing Agreement.

Parties: Kawasaki Kisen Kaisha, Ltd.; Wan Hai Lines (Singapore) PTE Ltd.; Wan Hai Lines Ltd.; Pacific International Lines (PTE) Ltd.

Filing Party: Eric. C. Jeffrey, Esq.; Nixon Peabody LLP; 799 9th Street NW., Suite 500; Washington, DC 20001.

Synopsis: The amendment adds Vietnam to the geographic scope of the Agreement.

Agreement No.: 012400.

Title: Trailer Bridge/Marinex Cargo Line Space Charter Agreement.

Parties: Trailer Bridge, Inc. and Marinex Cargo Line.

Filing Party: Keith B. Letourneau, Esq.; Blank Rome, LLP; 717 Texas Avenue; Suite 1400; Houston, TX 77002.

Synopsis: The agreement authorizes Marinex to charter space to Trailer Bridge in the trade between Puerto Rico on the one hand, and St. Maarten, St. Croix, St. Thomas, and Tortola on the other hand.

Agreement No.: 012401.

Title: Trailer Bridge/America Cruise Ferries Space Charter Agreement.

Parties: Trailer Bridge, Inc. and American Cruise Ferries, Inc.

Filing Party: Keith B. Letourneau, Esq.; Blank Rome, LLP; 717 Texas Avenue; Suite 1400; Houston, TX 77002.

Synopsis: The agreement authorizes American Cruise Ferries to charter space to Trailer Bridge in the trade between Puerto Rico and the Dominican Republic.

Agreement No.: 012402.

Title: APL/Hamburg Sud Space Charter Agreement.

Parties: Hamburg Sud; and APL Co. Pte Ltd. and American President Lines, Ltd. (collectively “APL”).

Filing Party: Eric. C. Jeffrey, Esq.; Nixon Peabody LLP; 799 9th Street NW., Suite 500; Washington, DC 20001.

Synopsis: The agreement authorizes APL to charter space to Hamburg Sud in the trade from China, Hong Kong, and Korea to the United States Pacific Northwest.

Agreement No.: 012403.

Title: MOL/ZIM Slot Exchange Agreement.

Parties: Mitsui O.S.K. Lines, Ltd. and Zim Integrated Shipping Services Co., Ltd.

Filing Party: Mark E. Newcomb; ZIM American Integrated Shipping Services, Co. LLC; 5801 Lake Wright Dr.; Norfolk, VA 23508.

Synopsis: The agreement authorizes the parties to exchange slots on each other's services in the trade between the U.S. on the one hand; and China, Korea, Malaysia, Panama, Saudi Arabia, Singapore, Sri Lanka, Taiwan, and Vietnam on the other hand.

Agreement No.: 012404.

Title: COSCON/UASC Slot Charter Agreement Asia—USWC.

Parties: COSCO Container Lines Co. Ltd. and United Arab Shipping Co., S.A.G.

Filing Party: Eric. C. Jeffrey, Esq.; Nixon Peabody LLP; 799 9th Street NW., Suite 500; Washington, DC 20001.

Synopsis: The agreement provides for the exchange of slots between COSCON and UASC on their respective services in the trade between the United States West Coast and China (including Hong Kong), Korea, Malaysia, Singapore, and Vietnam.

Agreement No.: 201232-001.

Title: NYSA-ILA Assessment Agreement.

Parties: International Longshoremen's Association and New York Shipping Association.

Filing Parties: Donato Caruso, Esq.; The Lambos Firm, LLP; 303 South Broadway,Suite 410; Tarrytown, NY 10591 and Andre Mazzola, Esq.; Marrinan & Mazzola Mardon, P.C.; 26 Broadway, 17th Floor; New York, NY 10004.

Synopsis: The amendment reduces the assessment for all House Containers Within 260 Miles to $89.00 per container in all trades except in the Bermuda Trade.

By Order of the Federal Maritime Commission.
Dated: April 22, 2016.
Rachel E. Dickon,
Assistant Secretary.

[FR Doc. 2016-09845 Filed 4-26-16; 8:45 am]

BILLING CODE 6731-AA-P